SMALL BUSINESS ADMINISTRATION

Public Federal Regulatory Enforcement Fairness Hearing; Region III Regulatory Fairness Board

The Small Business Administration Region III Regulatory Fairness Board and the SBA Office of the National Ombudsman will hold a public hearing on Thursday, February 20, 2003, at 1 p.m. (e.s.t.) at the Martin Luther King, Jr. Memorial Library, 901 G Street, NW., A-5 Auditorium, Washington, DC 20001, to receive comments and testimony from small business owners, small government entities, and small non-profit organizations concerning regulatory enforcement and compliance actions taken by Federal agencies.

Anyone wishing to attend or to make a presentation must contact Sheila Thomas in writing or by fax, in order to be put on the agenda. Sheila Thomas, U.S. Small Business Administration, Washington District Office, 1110 Vermont Avenue, NW., Suite 900, P.O. Box 34500, Washington, DC 20005, phone (202) 606-4000 ext 276, fax (202) 481-5567, e-mail sheila.thomas@sba.gov.

For more information, see our Web site at www.sba.gov/ombudsman.

Dated: February 4, 2003.
C. Edward Rowe, III,
Counsel, Office of the National Ombudsman.

[FR Doc. 03-3349 Filed 2-10-03; 8:45 am]

BILLING CODE 8025-01-P